POSTAL REGULATORY COMMISSION

[Docket No. MC2019-4; Order No. 4853]

Mail Classification Schedule

AGENCY: Postal Regulatory Commission.

ACTION: Notice.

SUMMARY: The Commission is recognizing a recent Postal Service filing concerning minor classification changes to correct the names of foreign countries that appear in various portions of the Mail Classification Schedule. This document informs the public of the filing, invites public comment, and takes other administrative steps.

DATES: Comments are due: November 8, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On October 10, 2018, the Postal Service filed a notice of classification changes pursuant to Commission rule 39 CFR 3020.90.¹ The Postal Service seeks to correct the names of foreign countries that appear in various portions of the Mail Classification Schedule (MCS). Notice at 1. The changes are intended to take effect on January 27, 2019. Id.

¹ Notice of United States Postal Service of Minor Classification Changes, October 10, 2018 (Notice).

II. Summary of Changes

The Postal Service proposes revisions to references to the names of a dozen foreign countries in the MCS, as well as a minor editorial change. The Postal Service states that “[t]he purpose of these minor changes is to correct the names of foreign countries . . . so that the MCS accurately reflects current country names.” Id.

The Postal Service avers that the proposed changes satisfy the requirements of 39 CFR 3020.90 because the changes should result in a more accurate representation of the Postal Service's offerings, the Notice is filed more than 15 days prior to the intended effective date, and the changes merely update or correct country names without changing product offerings or pricing. Id. at 1-2.

III. Notice of Commission Action

Pursuant to 39 CFR 3020.91, the Commission has posted the Notice on its website and invites comments on whether the Postal Service's filings are consistent with 39 CFR 3020 subpart E. Comments are due no later than November 8, 2018. The public portions of these filings can be accessed via the Commission's website (http://www.prc.gov).

The Commission appoints Richard A. Oliver to represent the interests of the general public (Public Representative) in this docket.

IV. Ordering Paragraphs

It is ordered:

1. The Commission establishes Docket No. MC2019-4 to consider matters raised by the Notice.

2. Comments by interested persons are due by November 8, 2018.

3. Pursuant to 39 U.S.C. 505, Richard A. Oliver is appointed to serve as an officer of the Commission (Public Representative) to represent the interests of the general public in this proceeding.

4. The Commission directs the Secretary of the Commission to arrange for prompt publication of this notice in the Federal Register.

By the Commission.
Stacy L. Ruble,
Secretary.

[FR Doc. 2018-22523 Filed 10-16-18; 8:45 am]

BILLING CODE 7710-FW-P